DEPARTMENT OF HEALTH AND HUMAN SERVICES

Centers for Disease Control and Prevention

Disease, Disability, and Injury Prevention and Control Special Emphasis Panel: Occupational Radiation and Energy-Related Research Grants, Program Announcement OH-02-002

In accordance with section 10(a)(2) of the Federal Advisory Committee Act (Pub. L. 92-463), the Centers for Disease Control and Prevention (CDC) announces the following meeting:

Name: Disease, Disability, and Injury Prevention and Control Special Emphasis Panel (SEP): Occupational Radiation and Energy-Related Research Grants, Program Announcement OH-02-002.

Times and Dates: 8 a.m.-8:30 a.m., July 22, 2002 (Open), 8:40 a.m.-5 p.m., July 22, 2002 (Closed), 8 a.m.-5 p.m., July 23, 2002 (Closed).

Place: Brazilian Court Hotel, 301 Australian Avenue, Palm Beach, Florida 33480.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to RFA OH-02-002.

This notice is being published less than fifteen days prior to meeting dates due to administrative oversight.

Contact Person for More Information: Pervis Major, Ph.D., Scientific Review Administrator, National Institute for Occupational Safety and Health, CDC, 1095 Willowdale Road, M/S B228, telephone (304) 285-5979.

The Director, Management Analysis and Services Office has been delegated the authority to sign Federal Register notices pertaining to announcements of meetings and other committee management activities, for both the Centers for Disease Control and Prevention and the Agency for Toxic Substances and Disease Registry.

Dated: July 2, 2002.
Joe Salter,
Acting Director, Management Analysis and Services Office, Centers for Disease Control and Prevention (CDC).

[FR Doc. 02-17111 Filed 7-8-02; 8:45 am]

BILLING CODE 4163-19-P